OFFICE OF MANAGEMENT AND BUDGET

Office of Federal Procurement Policy

48 CFR Part 9904

Capitalization of Tangible Assets; Correction

AGENCY: Cost Accounting Standards Board; Office of Federal Procurement Policy, OMB.

ACTION: Correction to final rule.

SUMMARY: This document contains technical corrections to the Illustrations in CAS 9904.404, “Capitalization of Tangible Assets.” An amendment to this Standard was published on February 13, 1996 (61 FR 5520). However, while the contractor's minimum cost criteria for capitalization was increased from $1,500 to $5,000 in the body of the Standard, this change was not reflected in the Illustrations part of the Standard. This technical correction brings the figures in the relevant Illustrations into line with the $5,000 minimum cost criteria for capitalization currently incorporated in the body of the Standard.

DATES: This rule is effective June 30, 2005.

FOR FURTHER INFORMATION CONTACT: Rein Abel, Director of Research Cost Accounting Standards Board (telephone 202-395-3254).

SUPPLEMENTARY INFORMATION: When the Standard was amended in February 1996 (61 FR 5520) only the fundamental requirement at 9904-40 (b)(1) was changed to reflect the increase in the capitalization criteria from $1,500 to $5,000. However, corresponding changes were not made to the Illustrations in the Standard. This document makes the necessary technical corrections to Illustrations at 9904-60.

List of Subjects in 48 CFR 9904

Government procurement, Cost accounting standards.

Accordingly, for the reasons set forth above, it is proposed to correct 48 CFR part 9904 as follows:

PART 9904—COST ACCOUNTING STANDARDS

1. Authority. The authority citation for part 9904 continues to read as follows:

Authority: Public Law 100-679 Stat. 4056, 41 U.S.C. 422.

9904.404-60 [Corrected]

2. In 9904.404-60 (a) (1), first sentence, remove “$2,000” and insert “$6,000” in its place; and in the second sentence remove “$1,500” and insert “$5,000” in its place; and in paragraph (a) (1) (i) revise the first sentence to read as follows: “Contractor acquires a tangible capital asset with a life of 18 months at a cost of $6,500.”

David H. Safavian,
Chair, Cost Accounting Standards Board.

[FR Doc. 05-12857 Filed 6-29-05; 8:45 am]

BILLING CODE 3110-01-P